DEPARTMENT OF TRANSPORTATION

Federal Motor Carrier Safety Administration

[FMCSA Docket No. FMCSA-2003-14652]

Commercial Driver's License Standards; Isuzu Motors America, Inc.’s Exemption Application

AGENCY: Federal Motor Carrier Safety Administration (FMCSA), DOT.

ACTION: Notice of application for exemption; request for comments.

SUMMARY: The FMCSA announces receipt of an application from Isuzu Motors America, Inc. (Isuzu), requesting an exemption from the agency's requirement of 49 CFR 383.23 for drivers of commercial motor vehicles (CMVs) to hold a commercial driver's license (CDL). Isuzu requested the exemption for 31 Japanese engineers and technicians who will be test-driving CMVs for Isuzu. All of the individuals hold a valid Japanese commercial license and are specially trained in driving CMVs in Japan. They normally work at Isuzu Motors Limited (IML) in Japan where their duties involve developing, designing, and/or testing engines for CMVs that will be manufactured, assembled, sold or primarily used in the United States. Isuzu states the exemption is necessary in order to allow the required testing of CMVs in various climatic and environmental conditions within the United States. Isuzu also states the written and driving tests and training program that Japanese drivers must undergo for a Japanese CDL, ensure a level of safety that is equivalent to, or greater than, the level of safety that would be obtained by complying with the regulation. If granted, the exemption would preempt inconsistent State and local requirements applicable to both interstate and intrastate commerce.

DATES: Please submit comments by May 30, 2003.

ADDRESSES: Submit comments by mail or messenger service to the U.S. Department of Transportation, Dockets Management System, 400 Seventh Street, SW., Room Plaza Level-401, Washington, DC 20590-0001. To receive confirmation of receipt of your written comments, include a self-addressed, stamped postcard. You may submit comments electronically to the Dockets Management System (DMS) Web site at http://dms.dot.gov, and click on comments/submissions; or by fax to (202) 493-2251. Be sure your comments refer to docket number FMCSA-2003-14652.

All comments and material received from the public, as well as this notice and the application mentioned in the notice, are available for review in the public docket. You may inspect or copy documents at the Dockets Management Facility at the above address between 9 a.m. and 5 p.m., Monday through Friday, except Federal holidays. You may also view and copy documents through the DMS Web site at http://dms.dot.gov, and click on simple search.

FOR FURTHER INFORMATION CONTACT: Ms. Teresa Doggett, (202) 366-2990, Office of Bus and Truck Standards and Operations (MC-PSP); or Mr. Joseph Solomey, (202) 366-1374, Office of the Chief Counsel (MC-CC), Federal Motor Carrier Safety Administration, DOT, 400 Seventh Street, SW., Washington, DC 20590. Office hours are from 7:45 a.m. to 4:15 p.m., e.t., Monday through Friday, except Federal holidays.

SUPPLEMENTARY INFORMATION:

Background

Sections 31315 and 31136 of title 49 of the United States Code (U.S.C.) provide the FMCSA with authority to grant exemptions from certain parts of the Federal Motor Carrier Safety Regulations (FMCSRs). An exemption provides relief to a person or class of persons subject to the regulations for up to two years, and may be renewed. These provisions also require the exemption to achieve a level of safety that is equivalent to, or greater than, the level of safety that would be obtained if the applicant complied with the regulations.

On December 8, 1998, FMCSA published an interim final rule implementing section 4007 of the Transportation Equity Act for the 21st century (TEA-21) (codified at 49 U.S.C. 31315 (see 63 FR 67600)). The regulations at 49 CFR part 381 establish the procedures to be followed to request waivers and to apply for exemptions from the FMCSRs, and the provisions used to process them.

The agency must publish a notice in the Federal Register for each exemption requested, explaining that the request has been filed, providing the public with an opportunity to inspect the safety analysis and any other relevant information known to the agency; and provide an opportunity for public comment on the exemption. (See 49 U.S.C. 31315(b) and 49 CFR 381.315).

Before granting a request for an exemption, the agency must publish a notice in the Federal Register identifying: (1) Who would receive the exemption, (2) what regulation would be covered by the exemption, (3) how long the exemption would be in effect, and (4) all terms and conditions of the exemption. The terms and conditions established by the FMCSA must ensure that the exemption will likely achieve a level of safety that is equivalent to, or greater than, the level that would be achieved by complying with the regulation.

Isuzu Application for an Exemption

Isuzu Motors America, Inc. (Isuzu) applied for an exemption from the commercial driver's licensing rules, specifically 49 CFR 383.23, which provides licensing requirements for drivers operating CMVs in interstate commerce. Isuzu is seeking this exemption because the drivers it employs are citizens and residents of Japan.

FMCSA is responsible for the administration and enforcement of the FMCSRs, including the commercial driver's license requirements. Section 383.23(a)(2) states that no person shall operate a CMV unless such person possesses a CDL issued by his or her jurisdiction of domicile. There is an exception to this rule which states that CMV drivers domiciled in other jurisdictions that do not test drivers and issue licenses in accordance with Federal regulations must obtain a nonresident CDL from a State which does comply with the Federal testing and licensing standards.

The drivers working for Isuzu hold current commercial licenses issued by the Japanese authorities and meet testing and driver qualification standards, including medical examinations, which are comparable to those administered by jurisdictions in the United States to applicants for State-issued CDLs. The Japanese-issued license indicates that the drivers have the knowledge and skills necessary to comply with the agency's rules. A copy of the application is in the docket identified at the beginning of this notice.

The exemption would allow the following drivers to operate tractor trailer combination vehicles in interstate commerce as part of a team of drivers who develop, design and/or test engines for CMVs that will be manufactured, assembled, sold or primarily used in the United States: Shintaro Moroi, Shigeru Takamatsu, Norio Takeda, Takeshi Yamagishi, Satoru Amemiya, Toshiya Asari, Yasunori Fujita, Shiro Fukuda, Tetsuya Hiromatsu, Kazunori Ligo, Masao Inoue, Akihuro Kashiwakura, Kinya Kitamura, Tsuyoshi Koyama, Takao Kudo, Wataru Kumakura, Yoshihiko Matsubara, Nobuyuki Miyazaki, Ryo Natsume, Motoki Nishi, Takuo Nishi, Fumio Oota, Masuru Otsu, Toshimitsu Sato, Kazuyoshi Shimamura, Masahito Suzuki, Yasuhito Tahara, Hiroyoshi Takahashi, Takashi Tanabe, Takehito Yaguchi, and Tsutomu Yamazaki.

The vehicles these drivers intend to operate will be tested in various climates and highway conditions in the states of Arizona, California, Colorado, Illinois, Indiana, Iowa, Kansas, Michigan, Nebraska, Nevada, Ohio, Utah and Wyoming.

These drivers are a team of designers, currently employed by IML in Japan, who want to drive CMVs in the United States to test and evaluate production and prototype CMVs in order to design safe and well-tested vehicles for use on U.S. highways. They are fully qualified CMV operators with valid Japanese-issued commercial licenses. The company ensures that the qualifications are maintained and all current Japanese laws are followed. Due to strict regulations in Japan for drivers holding Japanese-issued licenses and extensive CMV training and experience, Isuzu Motors America, Inc. believes that the exemption is likely to achieve a level of safety equivalent to the level of safety that would be obtained absent the exemption.

Isuzu does not anticipate any adverse safety impacts from this exemption due to the fact that Japanese authorities adhere to very strict commercial driver testing and licensing procedures.

Method To Ensure an Equivalent or Greater Level of Safety

Drivers applying to obtain a Japanese-issued commercial license must take both a knowledge test and skills test before a license to operate CMVs is issued. Prior to taking the tests, drivers are required to hold a conventional driver's license for at least three years. The process for obtaining a Japanese-issued commercial license is very rigorous and comprehensive, and Isuzu considers it to be comparable to, or as effective as the requirements of part 383 of the Federal requirements and adequately assesses the driver's ability to operate CMVs in the United States.

Once a Japanese driver is granted a commercial license, he/she is allowed to drive any CMV currently allowed on Japan roads. There are no limits to types or weights of vehicles that may be operated by the drivers. The drivers affected by the exemption will be operating tractor-trailer units. These vehicles will not be used for transporting merchandise as a commercial activity. It is estimated that each driver will drive approximately 5,000 miles on U.S. roads.

Request for Comments

In accordance with 49 U.S.C. 31315(b)(4) and 31136(e), FMCSA requests public comment from all interested persons on Isuzu's application for an exemption from the CDL requirement of 49 CFR 383.23. The agency may grant or deny the application based on the comments received and any other relevant information that is available to the agency. Comments received after the comment closing date will be filed in the public docket and will be considered to the extent practicable, but FMCSA may make its decision at any time after the close of the comment period. In addition to late comments, FMCSA will also continue to file, in the public docket, relevant information that becomes available after the comment closing date. Interested persons should continue to examine the public docket for new material.

Authority: 49 U.S.C. 31136 and 31315; and 49 CFR 1.73.

Issued on: April 23, 2003.
Annette M. Sandberg,
Acting Administrator.

[FR Doc. 03-10571 Filed 4-29-03; 8:45 am]

BILLING CODE 4910-EX-P